DEPARTMENT OF ENERGY

Federal Energy Regulatory Commission

[P-13123-002-CA]

Eagle Mountain Pumped Storage Hydroelectric Project, Eagle Crest Energy; Notice of Meeting With the Bureau of Land Management

a. Date and Time of Meeting: Wednesday, August 15, 2012, at 9 a.m. (Pacific Time) and Thursday, August 16, 2012, at 9 a.m. (if needed).

b. Location: Hilton Palm Springs, 400 East Tahquitz Canyon Way, Palm Springs, California 92262-6605, Telephone: (760) 320-6868.

c. FERC Contact: Kenneth Hogan, (202) 502-8434: Kenneth.Hogan@ferc.gov.

d. Purpose of the Meeting: Commission staff will meet with the staff of the Bureau of Land Management to improve agency coordination and discuss the agencies' overlapping jurisdictions (pursuant to the Federal Land Policy and Management Act and the Federal Power Act), on the Eagle Mountain Pumped Storage Hydroelectric Project.

e. All local, state, and federal agencies, tribes, and interested parties, are hereby invited to observe the meeting in person.

Dated: July 17, 2012.
Kimberly D. Bose,
Secretary.

[FR Doc. 2012-17920 Filed 7-23-12; 8:45 am]

BILLING CODE 6717-01-P